DEPARTMENT OF DEFENSE

Department of the Army

[Docket ID: USA-2024-HQ-0015]

Proposed Collection; Comment Request

AGENCY: Department of the Army, Department of Defense (DoD).

ACTION: 60-day information collection notice.

SUMMARY: In compliance with the Paperwork Reduction Act of 1995, U.S. Army Survivor Outreach Services announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 7, 2025.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to the Army Records Management Directorate (ARMD), 9301 Chapek Road, Ft. Belvoir, VA 22060-5605, ATTN: Mr. Douglas Fravel, or call 571-515-0220.

SUPPLEMENTARY INFORMATION:

Title; Associated Form; and OMB Number: Application for Survivor Access Card; IMCOM Form 44; OMB Control Number 0702-0152.

Needs and Uses: In accordance with AR 190-13, the Army Physical Security Program permits surviving family members to have unescorted access to Army installations via the Survivor Access Card, in order for them to receive services, attend events, view memorials, and similar activities. Eligible survivors are those who meet the eligibility criteria to receive the Gold Star Lapel Button or Next of Kin Lapel Button. Eligible survivors must first contact the installation level Survivor Outreach Services (SOS) support coordinator to verify eligibility and coordinate issuance of an installation access credential. The application for Survivor Access Card (IMCOM Form 44) is obtained by eligible surviving family members from SOS staff members. Eligible family members complete the form to obtain the Survivor Access Card which grants survivors ease of access to military installations.

Affected Public: Individuals or households.

Annual Burden Hours: 670.

Number of Respondents: 670.

Responses per Respondent: 1.

Annual Responses: 670.

Average Burden per Response: 60 minutes.

Frequency: On occasion.

Dated: November 4, 2024.
Stephanie J. Bost,
Alternate OSD Federal Register Liaison Officer, Department of Defense.

[FR Doc. 2024-25950 Filed 11-7-24; 8:45 am]

BILLING CODE 6001-FR-P